DEPARTMENT OF DEFENSE

Office of the Secretary of Defense

Privacy Act of 1974; System of Records

AGENCY: Office of the Secretary, DoD.

ACTION: Notice to Amend Four Systems of Records.

SUMMARY: The Office of the Secretary of Defense is amending four system of records notices in its existing inventory of record systems subject to the Privacy Act of 1974, (5 U.S.C. 552a), as amended.

DATES: This proposed action will be effective without further notice on April 27, 2007 unless comments are received which result in a contrary determination.

ADDRESSES: Send comments to the OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION : The Office of the Secretary of Defense systems of records notices subject to the Privacy Act of 1974, (5 U.S.C. 552a), as amended, have been published in the Federal Register and are available from the address above.

The specific changes to the record systems being amended are set forth below followed by the notice, as amended, published in its entirety. The proposed amendments are not within the purview of subsection (r) of the Privacy Act of 1974, (5 U.S.C. 552a), as amended, which requires the submission of a new or altered system report.

L.M. Bynum
Alternative OSD Federal Register Liaison Officer, Department of Defense.

DFOISR 05

Freedom of Information Act Case Files (November 29, 2002, 67 FR 71147) .

Changes:

System identifier:

Delete entry and replace with “DWHS E02.”

* * * * *

System Location:

Delete entry and replace with “Freedom of Information Division, Executive Services Directorate, Washington Headquarters Services, 1155 Defense Pentagon, Washington, DC 20301-1155.”

* * * * *

System manager(s) and address:

Delete entry and replace with “Chief, Freedom of Information Division, Executive Services Directorate, Washington Headquarters Services, 1155 Defense Pentagon, Washington, DC 20301-1155”.

Notification procedure:

Delete entry and replace with “Individuals seeking to determine whether information about themselves is contained in this system of records should address written inquiries to Chief, Freedom of Information Division, Executive Services Directorate, Washington Headquarters Services, 1155 Defense Pentagon, Washington, DC 20301-1155.

Written requests should include the individual's name.”

Record access procedures:

Delete entry and replace with “Individuals seeking access to information about themselves contained in this system of records should address written inquiries to Chief, Freedom of Information Division, Executive Services Directorate, Washington Headquarters Services, 1155 Defense Pentagon, Washington, DC 20301-1155. Written requests should include the individual's name.

For personal visits to examine records, the individual should provide a form of picture identification, i.e., a driver's license.”

* * * * *

DWHS E02

System name:

Freedom of Information Act Case Files.

System location:

Freedom of Information Division, Executive Services Directorate, Washington Headquarters Services, 1155 Defense Pentagon, Washington, DC 20301-1155.

Categories of individuals covered by the system:

All individuals who submit Freedom of Information Act (FOIA) requests and administrative appeals to the Office of the Secretary of Defense, the Joint Staff, and other activities receiving administrative FOIA support from Washington Headquarters Services (WHS); individuals whose FOIA requests and/or records have been referred by other Federal agencies to the WHS for release to the requester; attorneys representing individuals submitting such requests and appeals; individuals who are the subjects of such requests and appeals; and/or the WHS personnel assigned to handle such requests and appeals.

Categories of records in the system:

Records created or compiled in response to FOIA requests and administrative appeals, i.e., original requests and administrative appeals; responses to such requests and administrative appeals; all related memoranda, correspondence, notes and other related or supporting documentation; and copies of requested records and records under administrative appeal.

Authority for maintenance of the system:

5 U.S.C. 301, Departmental Regulations; 5 D.S.C. 552, The Freedom of Information Act, as amended; and DoD 5400.7-R, DoD Freedom of Information Act Program.

Purpose(s):

Information is being collected and maintained for the purpose of processing FOIA requests and administrative appeals; for participating in litigation regarding agency action on such requests and appeals; and for assisting the Department of Defense in carrying out any other responsibilities under the FOIA.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD `Blanket Routine Uses' set forth at the beginning of OSD's compilation of systems of records notices apply to this system.

Policies and practices for storing, retrieving, accessing, retaining, and disposing of records in the system:

storage:

Paper records in file folder and electronic storage media.

Retrievability:

Retrieved by name, subject matter, date of document, and request number.

Safeguards:

Paper records are maintained in security containers with access only to officials whose access is based on requirements of assigned duties. Computer databases are password protected and accessed by individuals who have a need-to-know.

Retention and disposal:

Paper records that are granted are destroyed 2 years after the date of reply. Paper records that are denied in whole or part, no records responses, responses to requesters who do not adequately describe records being sought, or do not state a willingness to pay fees, and records which are appealed or litigated are destroyed 6 years after final action. Electronic records are deleted when no longer needed to support Directorate business needs.

System manager(s) and address:

Chief, Freedom of Information Division, Executive Services Directorate, Washington Headquarters Services, 1155 Defense Pentagon, Washington, DC 20301-1155.

Notification procedure:

Individuals seeking to determine whether information about themselves is contained in this system of records should address written inquiries to Chief, Freedom of Information Division, Executive Services Directorate, Washington Headquarters Services, 1155 Defense Pentagon, Washington, DC 20301-1155.

Written requests should include the individual's name.

Record access procedures:

Individuals seeking access to information about themselves contained in this system of records should address written inquiries to Chief, Freedom of Information Division, Executive Services Directorate, Washington Headquarters Services, 1155 Defense Pentagon, Washington, DC 20301-1155.

Written requests should include the individual's name.

For personal visits to examine records, the individual should provide a form of picture identification, i.e., a driver's license.

Contesting record procedures:

The OSD rules for accessing records, for contesting contents and appealing initial agency determinations are published in OSD Administrative Instruction 81; 32 CFR part 311; or may be obtained from the system manager.

Record source categories:

Those individuals who submit initial requests and administrative appeals pursuant to the FOIA; the agency records searched in the process of responding to such requests and appeals; Department of Defense personnel assigned to handle such requests and appeals; other agencies or entities that have referred to the Department of Defense requests concerning Department of Defense records or that have consulted with the Department of Defense regarding the handling of particular requests; submitters of records; and information that have provided assistance to the Department of Defense in making FOIA access determinations.

Exemptions claimed for the system:

During the course of a FOIA action, exempt materials from other systems of records may in turn become part of the case records in this system. To the extent that copies of exempt records from those ‘other' systems of records are entered into this FOIA case record, Washington Headquarters Services hereby claims the same exemptions for the records from those ‘other' systems that are entered into this system, as claimed for the original primary systems of records of which they are a part.

An exemption rule for this system has been promulgated in accordance with requirements of 5 U.S.C. 553(b)(1), (2), and (3), (c), and (e) and published in 32 CFR part 311. For additional information contact the system manager.

* * * * *

DFOISR 06

System name:

Security Review Index File (August 7, 2002, 67 FR 51235).

Changes:

System Identifier:

Delete entry and replace with “DWHS E03.”

* * * * *

System Location:

Delete entry and replace with “Freedom of Information Division, Executive Services Directorate, Washington Headquarters Services, 1155 Defense Pentagon, Washington, DC 20301-1155.”

* * * * *

Storage:

Delete entry and replace with “Paper records in file folders and electronic storage media.”

* * * * *

System manager(s) and address:

Delete entry and replace with “Chief, Freedom of Information Division, Executive Services Directorate, Washington Headquarters Services, 1155 Defense Pentagon, Washington, DC 20301-1155.”

Notification procedure:

Delete entry and replace with “Individuals seeking to determine whether information about themselves is contained in this system of records should address written inquiries to Chief, Freedom of Information Division, Executive Services Directorate, Washington Headquarters Services, 1155 Defense Pentagon, Washington, DC 20301-1155.

Written requests should include the individual's name and organizational affiliation of the individual.”

Record access procedures:

Delete entry and replace with “Individuals seeking access to information about themselves contained in this system of records should address written inquiries to Chief, Freedom of Information Division, Executive Services Directorate, Washington Headquarters Services, 1155 Defense Pentagon, Washington, DC 20301-1155.

Written requests should include the individual's name and organizational affiliation of the individual.

For personal visits to examine records, the individual should provide identification such as a driver's license or other form of picture identification.”

* * * * *

DWHS E03

System name:

Security Review Index File.

System location:

Freedom of Information Division, Executive Services Directorate, Washington Headquarters Services, 1155 Defense Pentagon, Washington, DC 20301-1155.

Categories of individuals covered by the system:

Department of Defense officials, who present statements, testify, or who furnish information to the Congress of the United States. Department of Defense officials and citizens or organizations outside the Defense Department who submit documents, such as but not limited to, speeches and articles, for clearance prior to public release.

Categories of records in the system:

Names, organizational affiliations, addresses, and other contact information of individuals submitting material for security review. The material submitted for review is also maintained with a database link to information about the submitting official and the action officer.

Authority for maintenance of the system:

5 U.S.C. 301, Departmental Regulations.

Purpose(s):

To manage the security review process for documents or materials before they are released outside of the Department of Defense. The documents and materials of completed security reviews are maintained for historical reference to ensure subsequent reviews, which may be similar in content, are handled consistently.

Routine uses of records maintained in the system, including categories of users and the purposes of such uses:

In addition to those disclosures generally permitted under 5 U.S.C. 552a(b) of the Privacy Act, these records or information contained therein may specifically be disclosed outside the DoD as a routine use pursuant to 5 U.S.C. 552a(b) (3) as follows:

The DoD ‘Blanket Routine Uses'’ set forth at the beginning of OSD's compilation of systems of records notices apply to this system.

Policies and practices for storing, retrieving, accessing, retaining, and disposing of records in the system: storage:

Paper records in file folders and electronic storage media.

Retrievability:

Retrieved by submitting official or action officer's name and/or organization, Security Review Case Number, or subject of submitted material.

Safeguards:

Paper files are maintained in security containers with access only to officials in accordance with assigned duties. Computer databases are password protected and accessed by individuals who have a need-to-know.

Retention and disposal:

Security review initial files are destroyed 2 years after clearance without amendment and 6 years after record was cleared with amendment or denied clearance. Security review appeal files which are cleared are destroyed 2 years after clearance and 6 years after record was cleared with amendment or denied.

System manager(s) and address:

Chief, Freedom of Information Division, Executive Services Directorate, Washington Headquarters Services, 1155 Defense Pentagon, Washington, DC 20301-1155.

Notification procedure:

Individuals seeking to determine whether information about themselves is contained in this system of records should address written inquiries to Chief, Freedom of Information Division, Executive Services Directorate, Washington Headquarters Services, 1155 Defense Pentagon, Washington, DC 20301-1155.

Written requests should include the individual's name and organizational affiliation of the individual.

Record access procedures:

Individuals seeking access to information about themselves contained in this system of records should address written inquiries to Chief, Freedom of Information Division, Executive Services Directorate, Washington Headquarters Services, 1155 Defense Pentagon, Washington, DC 20301-1155.

Written requests should include the individual's name and organizational affiliation of the individual.

For personal visits to examine records, the individual should provide identification such as a driver's license or other form of picture identification.

Contesting record procedures:

The OSD rules for accessing records, for contesting contents and appealing initial agency determinations are published in OSD Administrative Instruction 81; 32 CFR part 311; or may be obtained from the system manager.

Record source categories:

Submitted documents and materials with requests for security review from organizations and individuals and comments and recommendations returned by subject matter specialists.

Exemptions claimed for the system:

None.

* * * * *

DFOISR 10

System name:

Privacy Act Case Files (November 29, 2002, 67 FR 71147).

Changes:

System Identifier:

Delete entry and replace with “DWHS E04.”

* * * * *

System Location:

Delete entry and replace with “Freedom of Information Division, Executive Services Directorate, Washington Headquarters Services, 1155 Defense Pentagon, Washington, DC 20301-1155.”

* * * * *

System manager(s) and address:

Delete entry and replace with “Chief, Freedom of Information Division, Executive Services Directorate, Washington Headquarters Services, 1155 Defense Pentagon, Washington, DC 20301-1155.”

Notification procedure:

Delete entry and replace with “Individuals seeking to determine whether information about themselves is contained in this system of records should address written inquiries to the Chief, Freedom of Information Division, Executive Services Directorate, Washington Headquarters Services, 1155 Defense Pentagon, Washington, DC 20301-1155.”

Record access procedures:

Delete entry and replace with “Individuals seeking access to information about themselves contained in this system of records should address written inquiries to Chief, Freedom of Information Division, Executive Services Directorate, Washington Headquarters Services, 1155 Defense Pentagon, Washington, DC 20301-1155.”

* * * * *

DWHS E04

System name:

Privacy Act Case Files.

System location:

Freedom of Information Division, Executive Services Directorate, Washington Headquarters Services, 1155 Defense Pentagon, Washington, DC 20301-1155.

Categories of individuals covered by the system:

All individuals who submit Privacy Act requests and administrative appeals to the Washington Headquarters Services (WHS), the Joint Staff, and other activities receiving administrative support from WHS; individuals whose requests and/or records have been referred by other Federal agencies to WHS for release to the requester; attorneys representing individuals submitting such requests and appeals; individuals who are the subjects of such requests and appeals; and WHS personnel assigned to handle such requests and appeals.

Categories of records in the system:

Records created or compiled in response to Privacy Act requests and administrative appeals, i.e.; original requests and administrative appeals; responses to such requests and administrative appeals; all related memoranda, correspondence, notes, and other related or supporting documentation; and copies of requested records and records under administrative appeal.

Authority for maintenance of the system:

5 U.S.C. 301, Departmental Regulations; 5 U.S.C. 552a, The Privacy Act of 1974, as amended; DoD 5400.11-R, Department of Defense Privacy Program; Administrative Instruction 81, Privacy Program; and E.O. 9397 (SSN) .

Purpose(s):

Information is being collected and maintained for the purpose of processing Privacy Act requests and administrative appeals; for participating in litigation regarding agency action on such requests and appeals; and for assisting the Department of Defense in carrying out any other responsibilities under the Privacy Act of 1974.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of OSD's compilation of systems of records notices apply to this system.

Policies and practices for storing, retrieving, accessing, retaining, and disposing of records in the system: storage:

Paper records in file folders and electronic storage media.

Retrievability:

Filed chronologically by request number and retrieved by name and/or request number.

Safeguards:

Records are maintained in security containers with access only to officials whose access is based on requirements of assigned duties. Computer databases are password protected and accessed by individuals who have a need-to-know.

Retention and disposal:

Paper records that are granted are destroyed 2 years after the date of reply. Paper records that are denied in whole or part, no record responses, responses to requesters who do not adequately describe records being sought and records that are appealed or litigated are destroyed 6 years after final action. Electronic records are deleted when no longer needed to support Directorate business needs.

System manager(s) and address:

Chief, Freedom of Information Division, Executive Services Directorate, Washington Headquarters Services, 1155 Defense Pentagon, Washington, DC 20301-1155.

Notification procedure:

Individuals seeking to determine whether information about themselves is contained in this system of records should address written inquiries to Director, Freedom of Information and Security Review, Washington Headquarters Services, 1155 Defense Pentagon, Washington, DC 20301-1155.

Written requests should include the individual's name.

Record access procedures:

Individuals seeking access to information about themselves contained in this system of records should address written inquiries to Chief, Freedom of Information Division, Executive Services Directorate, Washington Headquarters Services, 1155 Defense Pentagon, Washington, DC 20301-1155.

Written requests should include the individual's name.

For personal visits to examine records, the individual should provide a form of picture identification, i.e., a driver's license.

Contesting record procedures:

The OSD rules for accessing records, for contesting contents and appealing initial agency determinations are published in OSD Administrative Instruction 81; 32 CFR part 311; or may be obtained from the system manager.

Record source categories:

Those individuals who submit initial requests and administrative appeals pursuant to the Privacy Act; the agency records searched in the process of responding to such requests and appeals; Department of Defense personnel assigned to handle such requests and appeals; other agencies or entities that have referred to the Department of Defense requests concerning Department of Defense records, or that have consulted with the Department of Defense regarding the handling of particular requests; and submitters or subjects of records or information that have provided assistance to the Department of Defense in making access or amendment determinations.

Exemptions claimed for the system:

During the course of a Privacy Act (PA) action, exempt materials from other systems of records may become part of the case records in this system of records. To the extent that copies of exempt records from those `other' systems of records are entered into these PA case records, Washington Headquarters Services hereby claims the same exemptions for the records as they have in the original primary systems of records which they are a part.

An exemption rule for this system has been promulgated in accordance with requirements of 5 U.S.C. 553(b)(1), ( 2), and ( 3), (c), and (e) and published in 32 CFR part 311. For additional information contact the system manager.

* * * * *

DFOISR 11

System name:

Mandator Declassification Review Files (December 30, 2003, 68 FR 75220).

Changes:

System Identifier:

Delete entry and replace with “DWHS E05.”

* * * * *

System Location:

Delete entry and replace with “Chief, Records and Declassification Division, Executive Services Directorate, 1155 Defense Pentagon, Washington, DC 20301-1155.”

* * * * *

System manager(s) and address:

Delete entry and replace with “Chief, Records and Declassification Division, Executive Services Directorate, 1155 Defense Pentagon, Washington, DC 20301-1155.”

Notification procedure:

Delete entry and replace with “Individuals seeking to determine whether information about themselves is contained in this system of records should address written inquiries to Chief, Records and Declassification Division, Executive Services Directorate, 1155 Defense Pentagon, Washington, DC 20301-1155.”

Record access procedures:

Delete entry and replace with “Individuals seeking access to information about themselves contained in this system of records should address written inquiries to Chief, Freedom of Information Division, Executive Services Directorate, Washington Headquarters Services, 1155 Defense Pentagon, Washington, DC 20301-1155.”

* * * * *

DWHS E05

System name:

Mandatory Declassification Review Files (December 30, 2003, 68 FR 75220).

System location:

Chief, Records and Declassification Division, Executive Services Directorate, 1155 Defense Pentagon, Washington, DC 20301-1155.

Categories of ndividuals covered by the system:

Individuals who request Mandatory Declassification Review (MDR) or appeal an MDR determination of a classified document for the purpose of releasing declassified material to the public, as provided for under the applicable Executive Order(s) governing classified National Security Information. Other individuals in the system are action officers.

Categories of records in the system:

Name and address of person making MDR request or appeal, identification of records requested, dates and summaries of action taken, and documentation for establishing and processing collectable fees. Names, titles, and/or positions of security specialists and/or officials responsible for an initial or final denial on appeal of a request for declassification of a record.

Authority for maintenance of the system:

E.O. 12958, Classified National Security Information, or other applicable Executive Order(s) governing classified National Security Information.

Purpose(s):

To manage requests and/or appeals from individuals for the mandatory review of classified documents for the purposes of releasing declassified material to the public; and to provide a research resource of historical, data on release of records so as to facilitate conformity in subsequent actions. Data developed from this system is used for the annual report required by the applicable Executive Order(s) governing classified National Security Information. This data also serves management needs, by providing information about the number of requests; the type or category of records requested; and the average processing time.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of OSD's compilation of systems of records notices apply to this system.

Policies and practices for storing, retrieving, accessing, retaining, and disposing of records in the system:

Storage:

Paper records in file folders and electronic storage media.

Retrievability:

Retrieved by name of requester and other pertinent information, such as organization or address, subject material describing the MDR item (including date), MDR request number using computer indices, referring agency, or any combination of fields.

Safeguards:

Paper records are maintained in security containers with access limited to officials having a need-to-know based on their assigned duties. Computer systems require user passwords and users are limited according to their assigned duties to appropriate access on a need-to-know basis.

Retention and disposal:

Files that grant access to records are held in current status for two years after the end of the calendar year in which created, then destroyed. Files pertaining to denials of requests are destroyed 5 years after final determination. Appeals are retained for 3 years after final determination.

System manager(s) and address:

Chief, Records and Declassification Division, Executive Services Directorate, 1155 Defense Pentagon, Washington, DC 20301-1155.

Notification procedure:

Individuals seeking to determine whether information about themselves is contained in this system of records should address written inquiries to Chief, Records and Declassification Division, Executive Services Directorate, 1155 Defense Pentagon, Washington, DC 20301-1155.

Written requests should include the individual's name and organizational affiliation of the individual at the time the record would have been created.

Record access procedures:

Individuals seeking access to information about themselves contained in this system of records should address written inquiries to Chief, Freedom of Information Division, Executive Services Directorate, Washington Headquarters Services, 1155 Defense Pentagon, Washington, DC 20301-1155.

Written requests should include the individual's name and organizational affiliation of the individual at the time the record would have been created.

For personal visits to examine records, the individual should provide identification such as a driver's license or other form of picture identification.

Contesting record procedures:

The OSD rules for accessing records, for contesting contents and appealing initial agency determinations are published in OSD Administrative Instruction 81; 32 CFR part 311; or may be obtained from the system manager.

Record source categories:

Requests from individuals for Mandatory Declassification Review and subsequent release of records and information provided by form and memorandum by officials who hold the requested records, act upon the request, or who are involved in legal action stemming from the action taken.

Exemptions claimed for the system:

None.

[FR Doc. 07-1497 Filed 3-27-07; 8:45 am]

BILLING CODE 5001-06-M